DEPARTMENT OF COMMERCE

International Trade Administration

Howard Hughes Medical Institute; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 A.M. and 5 P.M. in Suite 4100W, U.S. Department of Commerce, Franklin Court Building, 1099 14th Street, NW., Washington, DC.

Docket Number: 02-049. Applicant: Howard Hughes Medical Institute at New York University, New York, NY 10003. Instrument: Multisync Clinton Monoray monitor and FE-1 Goggles. Manufacturer: Cambridge Research Systems Ltd., United Kingdom. Intended Use: See notice at 67 FR 77749, December 19, 2002.

Comments: None received. Decision: Approved. No instrument of equivalent scientific value to the foreign instrument, for such purposes as it is intended to be used, is being manufactured in the United States. Reasons: The foreign instrument provides special goggles with rapid response time and a matched CRT display with very fast phosphors to obtain right eye/left eye image extinction values below 0.1% for study of stereopsis. The National Institutes of Health advises in its memorandum of December 10, 2002 that (1) this capability is pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 03-2447 Filed 1-31-03; 8:45 am]

BILLING CODE 3510-DS-P